DEPARTMENT OF HEALTH AND HUMAN SERVICES

Centers for Disease Control and Prevention

[60Day-06-05CW]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Online Surveys to Measure Awareness of Chronic Fatigue Syndrome Public Awareness Campaign (OMB Control No. 0920-05CW)—New—National Center for Health Marketing (NCHM), Centers for Disease Control and Prevention (CDC).

Background and Brief Description

Chronic fatigue syndrome (CFS) is a serious illness that affects many Americans. With as many as 900,000 cases, many of which are misdiagnosed or left undiagnosed, the need for a CFS public education and awareness campaign is crucial.

With an estimated $9.1 billion lost annually in U.S. productivity due to CFS, the economic impact is a substantial reason for Americans to take notice. More importantly, the diminished quality of life for many patients suffering from CFS is especially hard to manage. The lack of quality information regarding CFS makes it all the more difficult for those affected by CFS to receive the support and treatment needed to manage this illness.

Research shows that 80 to 90 percent of patients have not been clinically diagnosed and are not receiving proper medical care. Lack of awareness and information among health care providers about CFS as a serious and treatable illness has created significant barriers to diagnosing and treating those who suffer from CFS.

Congress recognized the need to change this scenario, as reported in the Committee Reports for the Senate Appropriations Committee (Senate Report 108-345—To accompany S. 2810 Sept. 15, 2004) when the committee stated:

Further, the Committee encourages CDC to better inform the public about this condition, its severity and magnitude and to use heightened awareness to create a registry of CFS patients to aid research in this field.

During the next two years, CDC, in partnership with the Chronic Fatigue and Immune Dysfunction Syndrome (CFIDS) Association of America, will build the case that chronic fatigue syndrome is real, serious and should be diagnosed quickly to ensure the best possible health outcomes.

To do so, a public education and awareness campaign will be launched to bring about changes in beliefs and social norms among target audiences (consumers: women aged 40-60, healthcare practitioners: nurse practitioners and physician assistants) that CFS is a diagnosable and treatable physical illness.

Although considerable research will be done to ensure that campaign themes, messages, and materials are effective, there is no way to test the impact of the campaign on the target audience other than to conduct baseline and follow-up surveys. These surveys will measure not only the level of awareness created by the campaign, but will measure change in key knowledge, attitudes and beliefs about CFS among the target audiences. There is no cost to respondents other than their time.

Estimate of Annualized Burden Hours
Respondents | Instrument | Number of respondents | Number of responses per respondent | Response burden per respondent (in hours) | Total annual burden (in hours)
Consumers (Women, 40-60 years of age) | Pre-program survey | 400 | 1 | 10/60 | 67
Consumers (Women, 40-60 years of age) | Post-program survey | 400 | 1 | 10/60 | 67
Physician Assistants | Pre-program survey | 200 | 1 | 10/60 | 33
Physician Assistants | Post-program survey | 200 | 1 | 10/60 | 33
Nurse Practitioners | Pre-program survey | 200 | 1 | 10/60 | 33
Nurse Practitioners | Post-program survey | 200 | 1 | 10/60 | 33
Total |  |  |  |  | 266

Dated: October 4, 2005.
Betsey Dunaway,
Acting Reports Clearance Officer, Centers for Disease Control and Prevention.

[FR Doc. 05-20323 Filed 10-7-05; 8:45 am]

BILLING CODE 4163-18-P